DEPARTMENT OF ENERGY

Federal Energy Regulatory Commission

[Docket No. RP03-136-000]

Alliance Pipeline L.P.; Notice of Proposed Change in FERC Gas Tariff

December 3, 2002.

Take notice that on November 27, 2002, Alliance Pipeline L.P. (Alliance) tendered for filing as part of its FERC Gas Tariff, Original Volume No. 1, First Revised Sheet No. 10; First Revised Sheet No. 257; and First Revised Sheet No. 258, proposed to become effective January 1, 2003.

Section 30.1 of the General Terms and Conditions (GTC) of Alliance's FERC Gas Tariff establishes an ACA charge applicable to Alliance's Rate Schedules FT-1 and IT-1. GTC Section 30.2 provides that such rate schedules shall include an ACA unit charge, which shall be the unit charge authorized by the Commission each year, and that Alliance shall file changes to the ACA unit charge annually to reflect the annual charge unit rate authorized by the Commission each year. Alliance states that it recently remitted payment for its initial Annual Charges Billing, covering fiscal year 2002.

Alliance states that all of its firm transportation capacity is subscribed on an long-term basis by its existing Rate Schedule FT-1 customers, all of whom have agreed to pay negotiated rates. The shippers' negotiated rate agreements provide that changes in Alliance's costs will be reflected in its negotiated rates from time to time. Contemporaneous with Alliance's filing in this docket, Alliance made a tariff change filing in Docket No. RP00-445-003 to adjust its negotiated rates to reflect changes in its costs.

Alliance states that its negotiated rate shippers have agreed that the amount of the Annual Charges Billing may be included as one of the cost changes reflected in Alliance's adjusted negotiated rates. Accordingly, Alliance states that the negotiated rates adjustment filing reflects the cost of the Annual Charges Billing. Because Alliance will recover its Annual Charges Billing in its negotiated rates, it is barred by Section 154.402 of the Commission's regulations from also recovering such costs through an ACA unit charge. Therefore, Alliance states that it is filing the revised tariff sheets listed above to delete the ACA charge authority from its FERC Gas Tariff.

Alliance further states that copies of its filing have been mailed to all customers, state commissions, and other interested parties.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-31107 Filed 12-6-02; 8:45 am]

BILLING CODE 6717-01-P